DEPARTMENT OF HOMELAND SECURITY

U.S. Customs and Border Protection

19 CFR Parts 103 and 122

[Docket No. USCBP-2025-0053; CBP Dec. 26-04]

RIN 1651-AB61

Enhanced Air Cargo Advance Screening (ACAS); Corrections

AGENCY: U.S. Customs and Border Protection, Department of Homeland Security (DHS).

ACTION: Correcting amendment.

SUMMARY: U.S. Customs and Border Protection (CBP) is restoring the specific authority citations originally found in parts 103 and 122 of title 19 of the Code of Federal Regulations which were erroneously removed following the publication of the Enhanced Air Cargo Advance Screening (ACAS) interim final rule on November 21, 2025.

DATES: This correcting amendment is effective as of January 22, 2026.

FOR FURTHER INFORMATION CONTACT: Robert F. Altneu, Director, Regulations and Disclosure Law Division, U.S. Customs & Border Protection, by telephone at 202-325-0100 or by email at Robert.F.Altneu@cbp.dhs.gov.

SUPPLEMENTARY INFORMATION: On November 21, 2025, U.S. Customs and Border Protection (CBP) published the “Enhanced Air Cargo Advance Screening (ACAS)” interim final rule (IFR) which amended parts 103 and 122 of title 19 of the Code of Federal Regulations (19 CFR parts 103 and 122) to enhance the security of flights carrying cargo into the United States. See 90 FR 52796 (Nov. 21, 2025). Among other changes, CBP revised the authority citations for 19 CFR parts 103 and 122 to more accurately reflect CBP's statutory authority to carry out the ACAS program.

Specifically, CBP revised the specific authority citation for 19 CFR 103.31a to note that section 343(a) of the Trade Act of 2002, Public Law 107-210, formerly set out as a note to 19 U.S.C. 2071, is now codified as amended at 19 U.S.C. 1415. Additionally, CBP revised the specific authority citation for 19 CFR 103.31a and added a specific authority citation for 19 CFR 122.48b to note the enactment of section 1951 of the FAA Reauthorization Act of 2018, Public Law 115-254, codified as a note to 49 U.S.C. 44901. CBP did not intend to revise any other portions of the authority citations for 19 CFR parts 103 or 122, as indicated by CBP's use of five asterisks before and after the aforementioned specific authority citation revisions. See 90 FR at 52843.

Following the publication of the Enhanced ACAS IFR, the specific authority citations for 19 CFR 103.31a and 19 CFR 122.48b were revised in accordance with CBP's intent; however, all of the other specific authority citations that existed in 19 CFR parts 103 and 122 prior to November 21, 2025, the effective date of the Enhanced ACAS IFR, were removed. This correcting amendment corrects this error by restoring the specific authority citations of 19 CFR parts 103 and 122 that existed prior to November 21, 2025. This correcting amendment does not modify any requirements promulgated through the Enhanced ACAS IFR; further public procedure prior to making these corrections is unnecessary. See 5 U.S.C. 553(b)(B), (d).

Therefore, in accordance with the Enhanced ACAS IFR and 19 CFR 0.2(a), DHS is issuing this correcting amendment.

List of Subjects

19 CFR Part 103

Administrative practice and procedure, Confidential business information, Courts, Freedom of information, Law enforcement, Privacy, Reporting and recordkeeping requirements.

19 CFR Part 122

Administrative practice and procedure, Air carriers, Aircraft, Airports, Alcohol and alcoholic beverages, Cigars and cigarettes, Cuba, Customs duties and inspection, Drug traffic control, Freight, Penalties, Reporting and recordkeeping requirements, Security measures.

For the reasons stated in the preamble, 19 CFR parts 103 and 122 are corrected by making the following correcting amendments:

PART 103—AVAILABILITY OF INFORMATION

1. The authority citation for part 103 is revised to read as follows:

Authority: 5 U.S.C. 301, 552, 552a; 19 U.S.C. 66, 1624; 31 U.S.C. 9701.

Section 103.31 also issued under 19 U.S.C. 1431;

Section 103.31a also issued under 19 U.S.C. 2071 note, 6 U.S.C. 943, 19 U.S.C. 1415, and 49 U.S.C. 44901 note;

Section 103.33 also issued under 19 U.S.C. 1628;

Section 103.34 also issued under 18 U.S.C. 1905.

PART 122—AIR COMMERCE REGULATIONS

2. The authority citation for part 122 is revised to read as follows:

Authority: 5 U.S.C. 301; 19 U.S.C. 58b, 66, 1415, 1431, 1433, 1436, 1448, 1459, 1590, 1594, 1623, 1624, 1644, 1644a, 2071 note.

Section 122.22 is also issued under 46 U.S.C. 60105.

Section 122.48b also issued under 49 U.S.C. 44901 note.

Section 122.49a also issued under 8 U.S.C. 1101, 1221, 19 U.S.C. 1431, 49 U.S.C. 44909.

Section 122.49b also issued under 8 U.S.C. 1221, 19 U.S.C. 1431, 49 U.S.C. 114, 44909.

Section 122.49c also issued under 8 U.S.C. 1221, 19 U.S.C. 1431, 49 U.S.C. 114, 44909.

Section 122.49d also issued under 49 U.S.C. 44909(c)(3).

Section 122.75a also issued under 8 U.S.C. 1221, 19 U.S.C. 1431.

Section 122.75b also issued under 8 U.S.C. 1221, 19 U.S.C. 1431, 49 U.S.C. 114.

Christina E. McDonald,
Associate General Counsel for Regulatory Affairs.

[FR Doc. 2026-01167 Filed 1-21-26; 8:45 am]

BILLING CODE 9111-14-P